DEPARTMENT OF JUSTICE

Notice of Lodging of an Amendment to Consent Decree Under the Clean Air Act

Notice is hereby given that on June 25, 2012, a proposed Second Amendment to the consent decree in United States et al. v. Lafarge North America, et al., Civil Action No. 3:10-cv-44-JPG was lodged with the United States District Court for the Southern District of Illinois.

On March 18, 2010, the United States District Court for the Southern District of Illinois entered a consent decree (“decree”) resolving claims of the United States and twelve states or state agencies against Lafarge North America, Inc., Lafarge Midwest, Inc., and Lafarge Building Materials, Inc. (“Lafarge”) for alleged violations of the Clean Air Act (“CAA” or “Act”) at its thirteen portland cement production facilities in the United States. Specifically, the consent decree resolved alleged violations of the Act's Prevention of Significant Deterioration (“PSD”) provisions, 42 U.S.C. 7470-92; Nonattainment New Source Review (“NNSR”) provisions, 42 U.S.C. 7501-15; the federally approved and enforceable state implementation plans (“SIPs”) which incorporate and/or implement the above-listed federal PSD and/or NNSR requirements; and the CAA Title V operating permit requirements, 42 U.S.C. 7661-61f, including Title V's implementing federal and state regulations.

The proposed Second Amendment affects only three of the thirteen cement plants addressed in the Consent Decree: the Roberta, Alabama; Harleyville, South Carolina; and Atlanta, Georgia cement plants. The Amendment substitutes Argos USA Corp. and Argos Cement LLC (collectively, “Argos”) for Lafarge with respect to those facilities following their sale by Lafarge to Argos on October 3, 2011. Argos has agreed to undertake the Consent Decree obligations applicable to those facilities, to be substituted for Lafarge with respect to those facilities and has demonstrated that it has the financial and technical ability to assume the Decree's obligations at those facilities. The proposed Second Amendment also amends the Consent Decree to terminate Consent Decree requirements applicable to the Atlanta facility because all Decree obligations at that plant have been met and no further obligations apply to that facility under the Decree.

The Department of Justice will receive for a period of thirty (30) days from the date of this publication comments relating to the proposed Second Amendment. Comments should be addressed to the Assistant Attorney General, Environment and Natural Resources Division, and either emailed to pubcomment-ees.enrd@usdoj.gov or mailed to P.O. Box 7611, U.S. Department of Justice, Washington, DC 20044-7611, and should refer to United States et al. v. Lafarge North America, et al., Civil Action No. 3:10-cv-44-JPG, DJ# 90-5-2-1-08221.

During the public comment period, the proposed Second Amendment to the consent decree may be examined on the following Department of Justice Web site, http://www.usdoj.gov/enrd/Consent_Decrees.html. A copy of the proposed consent decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. In requesting a copy from the Consent Decree Library, please enclose a check in the amount of $ 11.50 (25 cents per page reproduction cost) payable to the U.S. Treasury or, if by email or fax, forward a check in that amount to the Consent Decree Library at the given address above.

Maureen M. Katz,
Assistant Section Chief, Environmental Enforcement Section, Environment and Natural Resources Division.

[FR Doc. 2012-15994 Filed 6-28-12; 8:45 am]

BILLING CODE 4410-15-P